DEPARTMENT OF LABOR

Employment and Training Administration

[NAFTA-5477]

Vison Tool & Manufacturing, Inc., Meadville, PA; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on October 26, 2001 in response to a worker petition that was filed on behalf of workers at Vison Tool & Manufacturing, Inc., Meadville, Pennsylvania.

The petitioning group of workers has requested that the petition be withdrawn. Consequently, further investigation in this case would serve no purpose, and the investigation has been terminated.

Signed in Washington, DC, this 24th day of April, 2002.
Linda G. Poole,
Certifying Officer, Division of Trade Adjustment Assistance.

[FR Doc. 02-12399 Filed 5-16-02; 8:45 am]

BILLING CODE 4510-30-M